DEPARTMENT OF TRANSPORTATION

National Highway Traffic Safety Administration

49 CFR Part 572

[Docket Number NHTSA-2006-23796]

Denial of Petition Regarding the Hybrid III 50th Percentile Adult Male Test Dummy

AGENCY: National Highway Traffic Safety Administration (NHTSA), DOT.

ACTION: Denial of Petition for Rulemaking.

SUMMARY: This document denies a petition submitted by Denton ATD, Inc. (Denton) on October 8, 2004. The petition requested NHTSA to provide additional specifications for the head assembly. NHTSA has fully reviewed Denton's petition and has concluded that the recommended changes are neither needed nor would serve to improve occupant protection. This document discusses the issues raised by Denton in its petition, provides analysis of the petition, and presents the conclusion reached by the agency.

FOR FURTHER INFORMATION CONTACT: For technical issues: Mr. Sean Doyle, NHTSA Office of Crashworthiness Standards. Telephone: (202) 366-1740. Facsimile: (202) 493-2739.

For legal issues: Mr. Edward Glancy, NHTSA Office of the Chief Counsel. Telephone: (202) 366-2992. Facsimile: (202) 366-3820.

Both officials can be reached by mail at the National Highway Traffic Safety Administration, 400 Seventh Street, SW., Washington, DC 20590.

Issues Raised in the Petition

Denton, a manufacturer of crash test dummies, petitioned NHTSA to amend the specifications of CFR Section 49, Part 572, Subpart E Hybrid III 50th Percentile Midsize Adult Male (HIII-50th) Crash Test Dummy and “provide additional specifications for the head and cap skin 78051-228 and -229, the skull and skull cap 18051-77X and -220 and additional drawing information for head assembly drawing 78051-61X.” Specifically, Denton petitioned for (1) The inclusion of component weight specifications for the individual flesh components of the head assembly (head skin and cap skin), (2) providing head skin thickness dimensions and tolerances, and (3) availability of patterns for the head skin, cap skin and skull cap. Denton also requested that sheet 2 of drawing number 78051-61X be provided in the HIII-50th drawing package.

Denton argued that the current HIII-50th drawing package is incomplete and the “lack of clear specifications is causing sales restrictions for Denton ATD.” Denton believes that the inclusion of these additional specifications to the current drawing package would “maintain the definition of reproducibility.” Denton considers these additional specifications helpful in preventing other dummy manufacturers from producing head skins with different dimensions. Denton states that “for the car manufacturers, these differences could possibly produce different crash test results and for the dummy manufacturer, this limits possible sales competition due to the interchangeability issue.”

Analysis of Petition

Denton recommended including component weight specifications for the head skin and cap skin in the HIII-50th drawing package. The weight of the head skin is already contained within the head assembly weight specification in the head assembly drawing 78051-338. The agency believes it is unnecessary to further specify the head assembly weight by requiring inclusion of individual head skin and cap skin weights. NHTSA believes that the currently specified weight tolerance and Center of Gravity (CG) location for the head assembly provide sufficient manufacturing flexibility to produce the HIII-50th head assembly to specified requirements.

Denton also recommended providing head skin thickness dimensions and tolerances. It stated that these were specified in drawing 78051-61 before it was replaced with 78051-61X. Denton claims that drawing 78051-61X consists of 3 sheets, however, sheet 2 is not currently available in the drawing package, and that this sheet includes head skin thickness dimensions. The agency concurs that drawing 78051-61X consists of 3 sheets and that sheet 2 includes the head skin thickness dimensions and tolerances that Denton is referring to in their petition. However, Denton is incorrect in their claim that sheet 2 of drawing 78051-61X is not currently available in NHTSA's drawing package. The National Archive and Record Administration's Office of the Federal Register ¹ archives agency drawing packages for public reference, and drawing 78051-61X in its entirety (sheets 1, 2, and 3) is located there. Denton did not specify the source of the drawing package that they claim was missing sheet 2 of drawing 78051-61X, although it appears it did not come from the agency's official drawing package. Nevertheless, to ensure that Denton has the proper drawing, the agency has included a copy of sheet 2 of drawing 78051-61x from the agency's official drawing package in the docket with this response.

¹ Federal Register, 800 North Capitol Street, Suite 700; Washington, DC, 20408.

Denton's last recommendation was to provide complete patterns for the head and cap skin (drawings 78051-228 and -229), and the skull and skull cap (drawings 78051-77X and -220). The incorporation of the head assembly into the agency regulation at 49 CFR Part 572 affirms that the head assembly drawings and other requirements provide sufficient detail to give reliable results under similar test conditions and reflect adequately the protective performance of a vehicle or item of motor vehicle equipment with respect to human occupants. Consequently, the agency believes that providing additional information on patterns or molds for these components, or providing additional instructions on how to manufacture and prepare the parts would not serve to improve the HIII-50th dummy's performance or improve occupant safety. Furthermore, every head assembly should undergo certification tests before being used in a test. These certification tests are established to indicate that the head assembly conforms to impact performance specifications prior to a test. The agency considers meeting the response specifications in certification tests, in conjunction with compliance to the drawing specifications, sufficient to ensure reliable responses in test results. Accordingly, the agency views slight dimensional or weight differences in head skins, which conform to the NHTSA's head assembly drawing and performance specifications, acceptable for agency testing. Moreover, the agency has been using heads and head skins from different dummy manufacturers for many years and has had no problems with dummy heads being unable to meet the performance specifications.

The agency reviewed Denton's petition and found no data establishing how the additional requested specifications would result in improvements in dummy response in tests leading to better assessment of occupant safety. Furthermore, the agency has found no evidence that a lack of alleged detail in the head and cap skin, and the skull and skull cap specifications, results in dummies not meeting the agency's performance specifications. The agency concludes that the recommended changes are neither needed nor would serve to improve occupant protection.

Conclusion

For the reasons discussed above, NHTSA is denying Denton's petition for Rulemaking on 49 CFR Part 572 Subpart E, Hybrid III 50th Percentile Midsize Adult Male Crash Test Dummy.

Authority: 49 U.S.C. 30162; delegations of authority at 49 CFR 1.50 and 49 CFR 501.8

Issued on: June 12, 2006.
Stephen R. Kratzke,
Associate Administrator for Rulemaking.

[FR Doc. E6-9453 Filed 6-15-06; 8:45 am]

BILLING CODE 4910-59-P